DEPARTMENT OF JUSTICE

Antitrust Division

Notice Pursuant to the National Cooperative Research and Production Act of 1993—Space Enterprise Consortium

Notice is hereby given that, on November 7, 2019, pursuant to Section 6(a) of the National Cooperative Research and Production Act of 1993, 15 U.S.C. 4301 et seq. (“the Act”), Space Enterprise Consortium (“SpEC”) has filed written notifications simultaneously with the Attorney General and the Federal Trade Commission disclosing changes in its membership. The notifications were filed for the purpose of extending the Act's provisions limiting the recovery of antitrust plaintiffs to actual damages under specified circumstances. Specifically, Atlas Business Consulting, Inc., Irvine, CA; Attollo Engineering, LLC, Camarillo, CA; Augustus Aerospace Company, Colorado Springs, CO; Boecore, Inc., Colorado Springs, CO; Bradford Space, Inc., San Jose, CA; Certus Solutions, LLC, Fredericksburg, VA; Chemring Energetic Devices, Downers Grove, IL; Cisco Systems, San Jose, CA; Cornerstone Defense, LLC, Hanover, MD; CubeCab Co., Mountain View, CA; Davidson Technologies, Inc., Huntsville, AL; Fibertek, Inc., Herndon, VA; GreenDart Incorporated, San Pedro, CA; Hill Engineering LLC, Rancho Cordova, CA; Integrated Solutions for Systems, Inc., Huntsville, AL; Keysight Technologies, Santa Rosa, CA; Longbow Software, LLC, Englewood, CO; Nuvotronics, Inc., Durham, NC; Omnispace LLC, McLean, VA; Orbital Micro Systems, Inc., Boulder, CO; Palantir USG, Inc., Palo Alto, CA; QUISnet, Inc., Draper, UT; RBC Signals LLC, Redmond, WA; RUAG Space USA, Inc., Huntsville, AL; Smart Security Systems LLC, Boulder, CO; SpinLaunch, Inc., Long Beach, CA; Systems Planning & Analysis, Inc., Alexandria, VA; TAU Technologies, Albuquerque, NM; The NAVSYS Corporation, Colorado Springs, CO; and Velos LLC, Princess Anne, MD, have been added as parties to this venture.

Also, AKELA, Santa Barbara, CA; ATA Aerospace, Albuquerque, NM; Carillon, Alexandria, VA; Integrity Communication Solutions, Colorado Springs, CO; L-3 Communication E.O.-IR, Santa Rosa, CA; Loadpath, Albuquerque, NM; Polaris Alpha, Colorado Springs, CO; Projects Unlimited, Dayton, OH; Research Innovations, Alexandria, VA; Solers, Inc., Arlington, VA; Solidyn Solutions, Greenwood Village, CO; and Space Systems Integration, Great Falls, VA, have withdrawn as parties to this venture.

No other changes have been made in either the membership or planned activity of the group research project. Membership in this group research project remains open, and SpEC intends to file additional written notifications disclosing all changes in membership.

On August 23, 2018, SpEC filed its original notification pursuant to Section 6(a) of the Act. The Department of Justice published a notice in the Federal Register pursuant to Section 6(b) of the Act on October 2, 2018 (83 FR 49576).

The last notification was filed with the Department on August 5, 2019. A notice was published in the Federal Register pursuant to Section 6(b) of the Act on September 4, 2019 (84 FR 46566).

Suzanne Morris,
Chief, Premerger and Division Statistics Unit Antitrust Division.

[FR Doc. 2019-26241 Filed 12-4-19; 8:45 am]

BILLING CODE 4410-11-P